SOCIAL SECURITY ADMINISTRATION

[Docket No. SSA-2010-0058]

Occupational Information Development Advisory Panel Meeting; Correction

AGENCY: Social Security Administration.

ACTION: Notice; correction.

SUMMARY: The Social Security Administration published a document in the Federal Register of September 13, 2010, announcing an upcoming panel teleconference meeting of the Occupational Information Development Advisory Panel. The document contained an incorrect timeframe for the meeting.

FOR FURTHER INFORMATION CONTACT: The panel staff by any one of these three methods:

• Mail: Occupational Information Development Advisory Panel, Social Security Administration, 6401 Security Boulevard, Operations Building, 3-E-26, Baltimore, Maryland 21235.

• Fax: (410) 597-0825.

• E-mail: OIDAP@ssa.gov.

Correction

In the Federal Register of September 13, 2010, in FR Doc. 2010-22711, on page 55625, in the second column, correct the DATES caption to read:

DATES: September 29, 2010, 10 a.m.-12 p.m. (EDT). Call-in number (866) 283-9791, Conference ID: 1482323, Leader/Host: Debra Tidwell-Peters.

Deborah Tidwell,
Designated Federal Officer.

[FR Doc. 2010-23206 Filed 9-16-10; 8:45 am]

BILLING CODE 4191-02-P